INTERNATIONAL TRADE COMMISSION

[USITC SE-11-007]

Government in the Sunshine Act Meeting Notice

Agency Holding the Meeting: United States International Trade Commission.

Time and Date: March 24, 2011 at 10 a.m.

Place: Room 110, 500 E Street, SW., Washington, DC 20436, Telephone: (202) 205-2000.

Status: Open to the public.

Matters to be Considered: 1. Agendas for future meetings: None.

2. Minutes.

3. Ratification List.

4. Vote in Inv. Nos. 731-TA-308-310 and 520-521 (Third Review) (Carbon Steel Butt-Weld Pipe Fittings from Brazil, China, Japan, Taiwan, and Thailand). The Commission is currently scheduled to transmit its determinations and Commissioners' opinions to the Secretary of Commerce on or before March 30, 2011.

5. Outstanding action jackets: none.

In accordance with Commission policy, subject matter listed above, not disposed of at the scheduled meeting, may be carried over to the agenda of the following meeting. Earlier notification of this meeting was not possible.

By order of the Commission.
Issued: March 15, 2011.
William R. Bishop,
Hearings and Meetings Coordinator.

[FR Doc. 2011-6718 Filed 3-17-11; 4:15 pm]

BILLING CODE 7020-02-P